DEPARTMENT OF STATE

[Public Notice: 12214]

30-Day Notice of Proposed Information Collection: Statement of Consent: U.S. Passport Issuance to a Child

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments up to December 13, 2023.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

• Title of Information Collection: Statement of Consent: U.S. Passport Issuance to a Child.

• OMB Control Number: 1405-0129.

• Type of Request: Revision of a Currently Approved Collection.

• Originating Office: Bureau of Consular Affairs, Passport Services (CA/PPT).

• Form Number: DS-3053.

• Respondents: Individuals.

• Estimated Number of Respondents: 362,900.

• Estimated Number of Responses: 362,900.

• Average Time per Response: 20 minutes.

• Total Estimated Burden Time: 121,000 hours.

• Frequency: On occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The information collected on the DS-3053 is used to facilitate the issuance of passports to U.S. citizens and nationals under age 18. The primary purpose of soliciting the information is to ensure that parents and/or guardians consent to the issuance of a passport to a child when required by 22 CFR 51.28.

Methodology

The Department collects information from the parents or legal guardians of U.S. national children when they complete and submit the DS-3053. Passport applicants can obtain the form from an acceptance facility/passport agency, manually sign it, and then have it notarized. Alternatively, applicants can download the form on the Department's website, fill it out electronically, and then print it for manual signature and notarization. The form must be completed, manually signed, notarized, and submitted along with the applicant's DS-11, Application for a U.S. Passport.

Matthew D. Pierce,
Managing Director for Passport Support Operations, Bureau of Consular Affairs, Passport Services, Department of State.

[FR Doc. 2023-24871 Filed 11-9-23; 8:45 am]

BILLING CODE 4710-05-P